ELECTION ASSISTANCE COMMISSION

Sunshine Act Notice

AGENCY: United States Election Assistance Commission.

ACTION: Notice of Public Meeting.

Date and Time: Thursday, February 8, 2007, 10 a.m.-1 p.m.

Place: U.S. Election Assistance Commission, 1225 New York Ave., NW., Suite 150, Washington, DC 20005.

(Metro Stop: Metro Center).

Agenda: The Commission will receive an update on the Voting System Laboratory Accreditation Program; The Commission will receive an update on the EAC audit process and hear presentations from state officials on their experiences with the audit process; The Commission will receive a presentation of the research findings regarding voter identification requirements. The Commission will consider other administrative matters.

This meeting will be open to the public.

Person to Contact for Information: Bryan Whitener, Telephone: (202) 566-3100.

Thomas R. Wilkey,
Executive Director, U.S. Election Assistance Commission.

[FR Doc. 07-345 Filed 1-23-07; 4:23 pm]

BILLING CODE 6820-KF-M